DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the name of one entity that has been placed on OFAC's Specially Designated Nationals and Blocked Persons List based on OFAC's determination that one or more applicable legal criteria were satisfied. All property and interests in property subject to U.S. jurisdiction of this entity are blocked, and U.S. persons are generally prohibited from engaging in transactions with them. OFAC is also publishing the name of this entity for being subject to Directives 2 and 4 under Executive Order 13662 that has been placed on OFAC's Sectoral Sanctions Identifications List.

DATES: See SUPPLEMENTARY INFORMATION section for effective date(s).

FOR FURTHER INFORMATION CONTACT: OFAC: Associate Director for Global Targeting, tel.: 202-622-2420; Assistant Director for Sanctions Compliance & Evaluation, tel.: 202-622-2490; Assistant Director for Licensing, tel.: 202-622-2480; or Assistant Director for Regulatory Affairs, tel.: 202-622-4855.

SUPPLEMENTARY INFORMATION:

Electronic Availability

The Specially Designated Nationals and Blocked Persons List and additional information concerning OFAC sanctions programs are available on OFAC's website (https://www.treasury.gov/ofac). A complete listing of persons determined to be subject to one or more directives under E.O. 13662, can be found in the Sectoral Sanctions Identifications List at http://www.treasury.gov/resource-center/sanctions/SDN-List/Pages/ssi_list.aspx.

Notice of OFAC Actions

On March 12, 2020, OFAC determined that the property and interests in property subject to U.S. jurisdiction of the following entity is blocked pursuant to section 1(a)(i) of Executive Order 13850 of November 1, 2018, “Blocking Property of Additional Persons Contributing to the Situation in Venezuela,” 83 FR 55243, 3 CFR, 2019 Comp., p. 881 (E.O. 13850), as amended by Executive Order 13857 of January 25, 2019, “Taking Additional Steps To Address the National Emergency With Respect to Venezuela,” 84 FR 509 (E.O. 13857), for operating in the oil sector of the Venezuelan economy. In addition, OFAC also identified the entity as subject to the prohibitions of Directive 2 (as amended) and Directive 4 of September 12, 2014, pursuant to Executive Order 13662 of March 20, 2014, “Blocking Property of Additional Persons Contributing to the Situation in Ukraine” (E.O. 13662), 31 CFR 589.406, 589.802, and the July 16, 2014 Sectoral Determinations by the Secretary of the Treasury Pursuant to E.O. 13662, 79 FR 63024 (Oct. 21, 2014).

Entity

TNK TRADING INTERNATIONAL S.A., place du Lac 2, Geneve 1204, Switzerland; Executive Order 13662 Directive Determination—Subject to Directive 2; alt. Executive Order 13662 Directive Determination—Subject to Directive 4; V.A.T. Number CHE-267.936.404 (Switzerland); Business Registration Number CH-660.0.559.011-2 (Switzerland); For more information on directives, please visit the following link: http://www.treasury.gov/resource-center/sanctions/Programs/Pages/ukraine.aspx#directives. [UKRAINE-EO13662] [VENEZUELA-EO13850] (Linked To: OPEN JOINT-STOCK COMPANY ROSNEFT OIL COMPANY).

Dated: March 12, 2020.
Andrea Gacki,
Director, Office of Foreign Assets Control.

Editorial note: This document was received for publication by the Office of the Federal Register on June 26, 2020.

[FR Doc. 2020-14218 Filed 6-30-20; 8:45 am]

BILLING CODE 4810-AL-P